DEPARTMENT OF DEFENSE

Office of the Secretary

[Transmittal No. 25-0V]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0V.

Dated: January 21, 2026.
Stephanie J. Bost,
Alternate OSD Federal Register Liaison Officer, Department of Defense.

BILLING CODE 6001-FR-P

BILLING CODE 6001-FR-C

Transmittal No. 25-0V

REPORT OF ENHANCEMENT OR UPGRADE OF SENSITIVITY OF TECHNOLOGY OR CAPABILITY (SEC. 36(B)(5)(C), AECA)

(i) Prospective Purchaser: Government of Malaysia

(ii) Sec. 36(b)(1), AECA Transmittal No.: 24-30

Date: May 6, 2024

Implementing Agency: Navy

Funding Source: National Funds

(iii) Description: On May 6, 2024, Congress was notified by congressional certification transmittal number 24-30 of the possible sale, under Section 36(b)(l) of the Arms Export Control Act, of ten (10) AN/AAQ-33 Sniper Advanced Targeting Pods. Also included were technical data and publications, personnel training, software and training equipment, United States (U.S.) Government and contractor engineering, technical, and logistics support services, and other related elements of logistics and program support. The total estimated value was $80 million. Major Defense Equipment (MDE) constituted $26 million of this total.

This transmittal notifies an increase in MDE value by $14 million due to recent cost increases. There are no additional MDE or non-MDE items being reported with this notification. The estimated total case value will increase by $14 million to a revised $94 million. The estimated non-MDE value will remain $54 million. MDE will constitute $40 million of this total.

(iv) Significance: The proposed sale will improve Malaysia's capability to meet current and future threats by modernizing its current F/A-18D platform with a common targeting pod.

(v) Justification: This proposed sale will support the foreign policy goals and national security objectives of the U.S. by improving the security of a key partner that is a force for political stability and economic progress in the Indo-Pacific region.

(vi) Sensitivity of Technology:

The Sensitivity of Technology Statement contained in the original notification applies to items reported here.

The highest level of classification of defense articles, components, and services included in this potential sale is SECRET.

(vii) Date Report Delivered to Congress: July 8, 2025

[FR Doc. 2026-01335 Filed 1-23-26; 8:45 am]

BILLING CODE 6001-FR-P